DEPARTMENT OF ENERGY

Federal Energy Regulatory Commission

[Project No. 2221-039]

Empire District Electric Company; Notice of Availability of Environmental Assessment

In accordance with the National Environmental Policy Act of 1969 and the Federal Energy Regulatory Commission (Commission) regulations, 18 CFR part 380 (Order No. 486, 52 FR 47897), the Office of Energy Projects has reviewed an application submitted by Empire District Electric Company (licensee) to allow the City of Branson, Missouri, the use of Ozark Beach Hydroelectric Project No. 2221, to use project lands and waters for municipal water supply. The Ozark Beach Hydroelectric Project is located on the White River in Taney County, Missouri and partially utilizes federal lands administered by the U.S. Army Corps of Engineers (Corps).

An Environmental Assessment (EA) has been prepared as part of Commission staff's review of the proposal. In the application, the licensee proposes to grant the City of Branson, Missouri permission to continue operating two existing raw water intake facilities (facilities) on Lake Taneycomo, the project's storage reservoir; and, increase the withdrawal from one of the two facilities by 5.0 million gallons per day (mgd). Approval of the licensee's request would authorize the total combined withdrawal of 11.2 mgd from the reservoir. This EA contains Commission staff's analysis of the potential environmental impacts of the continued operation of the existing facilities and the proposed increase in water withdrawal volume, and concludes that approval of the proposal would not constitute a major federal action significantly affecting the quality of the human environment.

The EA may be viewed on the Commission's website at http://www.ferc.gov using the “eLibrary” link. Enter the docket number (P-2221) in the docket number field to access the document. For assistance, contact FERC Online Support at FERCOnlineSupport@ferc.gov or toll-free at (866) 208-3372 or for TTY, (202) 502-8659.

For further information, contact Robert Ballantine at (202) 502-6289 or by email at robert.ballantine@ferc.gov.

Dated: April 7, 2020.
Kimberly D. Bose,
Secretary.

[FR Doc. 2020-07700 Filed 4-10-20; 8:45 am]

BILLING CODE 6717-01-P